DEPARTMENT OF HEALTH AND HUMAN SERVICES

45 CFR Subtitle A

Policy on Redundant, Overlapping, or Inconsistent Regulations

AGENCY: Immediate Office of the Secretary, Department of Health and Human Services (HHS).

ACTION: Policy statement.

SUMMARY: The Immediate Office of the Secretary (IOS) is issuing this policy regarding redundant, overlapping, or inconsistent regulations.

DATES: November 27, 2020.

SUPPLEMENTARY INFORMATION: The Department believes that its decision-making ought to be transparent, rational, and well-honed to achieve legitimate government objectives with minimum transaction costs to the affected sector. This policy furthers those objectives and the objectives of the Richardson Waiver (see 36 FR 2532 (Feb. 5, 1971)), and various Executive Orders by requiring that all regulations issued by this Department are necessary, understandable, and provide clear guidance to the public and regulated entities regarding the standards to be met and procedures to be followed. Redundant, overlapping, or inconsistent regulations undermine these goals by injecting uncertainty, creating potentially conflicting regulatory regimes, and increasing transactions costs with no discernible benefit to the public.

Effective immediately, all agencies and offices of the Department that prepare regulations must ensure that any rule is not inconsistent with, and does not overlap with, any regulation that has already been issued through an agency within the Department. In the event an agency proposing that the Secretary issue a rule discovers that such rule is inconsistent or overlaps with another Department rule, the proposing agency shall not recommend issuance until it also recommends to the Secretary the steps to be taken to avoid duplicative or overlapping regulations.

Collection of information requirements: This document does not impose information collection requirements.

Brian Harrison,
Chief of Staff, Department of Health and Human Services.

[FR Doc. 2020-26023 Filed 11-24-20; 8:45 am]

BILLING CODE 4150-03-P